PEACE CORPS

Information Collection Requests Under OMB Review

AGENCY: Peace Corps.

ACTION: Notice of information collection and request for comments.

SUMMARY: The Peace Corps has submitted a proposed collection of information to the Office of Management and Budget (OMB) for review and clearance under the provisions of the Paperwork Reduction Act of 1995. This notice invites the public to comment on the proposed collection of information by the Peace Corps' Office of Communications. The Peace Corps invites comments on whether the proposed collection of information is necessary for proper performance of the functions of the Peace Corps, including whether the information will have practical use; the accuracy of the agency's estimate of the burden of the proposed collection of information, including the validity of the information to be collected; and, ways to minimize the burden of the collection of information on those who respond, including through the use of automated collection techniques, when appropriate, and other forms of information technology.

DATES: Comments regarding this collection must be received on or before August 12, 2011.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOIA Officer, Peace Corps, 1111 20th Street, NW., Washington, DC 20526, (202) 692-1236, or e-mail at pcfr@peacecorps.gov. Copies of available documents submitted to OMB may be obtained from Denora Miller.

SUPPLEMENTARY INFORMATION: The Peace Corps Fellows/USA provides opportunities for returned Peace Corps Volunteers to pursue graduate education while working in schools and underserved communities. The purpose of this information collection is to identify areas of the Fellows/USA program that need improvement and better meet the educational needs of inquirers. The survey seeks to discover the reasons why inquirers who have taken the time to contact the Peace Corps for information on the Fellows/USA program have not eventually enrolled.

Title: Fellows/USA Program Improvement Survey.

OMB Control Number: 0420-0537.

Type of Review: Reinstatement, without change, of a previously approved collection which has expired.

Respondents: Returned Peace Corps Volunteers.

Burden to the Public:

a. Estimated annual number of respondents: 1,000.

b. Estimated average time to respond: 7 minutes.

c. Estimated total annual burden hours: 117 hours.

d. Frequency of response: One time.

e. Estimated cost to respondents: $0.00.

Dated: July 7, 2011.
Earl W. Yates,
Associate Director for Management.

[FR Doc. 2011-17537 Filed 7-12-11; 8:45 am]

BILLING CODE 6051-01-P